FEDERAL COMMUNICATIONS COMMISSION

47 CFR Part 73

[MM Docket No. 00-167; FCC 04-221]

Broadcast Services; Children's Television; Cable Operators

AGENCY: Federal Communications Commission.

ACTION: Final rule; announcement of effective date.

SUMMARY: This document announces the effective date of rules published in the Federal Register on January 3, 2005. The final rules revised the obligation of television broadcasters to protect and serve children in their audience.

DATES: The amendment to 47 CFR 73.3526(e)(11)(iii) published in the Federal Register at 70 FR 25, January 3, 2005, is effective February 26, 2013.

FOR FURTHER INFORMATION CONTACT: For additional information contact John Norton, 202-418-2120, Media Bureau, Policy Division.

SUPPLEMENTARY INFORMATION: In a Third Report and Order in Report and Order in MM Docket No. 00-167, FCC 04-103, published in the Federal Register, 70 FR 25, January 3, 2005, the Commission adopted rules which contained information collection requirements subject to the Paperwork Reduction Act. The document stated that the rule changes requiring OMB approval would become effective after OMB approval and announcement in the Federal Register. On June 23, 2006, the Office of Management and Budget (OMB) approved the information collection requirements contained in 47 CFR 73.3526(e)(11)(iii). The information collection is assigned to OMB Control No. 3060-0754.

Federal Communications Commission.
Marlene H. Dortch,
Secretary.

[FR Doc. 2013-03931 Filed 2-25-13; 8:45 am]

BILLING CODE 6712-01-P